DEPARTMENT OF COMMERCE

National Oceanic and Atmospheric Administration

50 CFR Part 648

[Docket No.: 200212-0053]

RIN 0648-XX037

Fisheries of the Northeastern United States; Blueline Tilefish Fishery; 2020 Specifications

AGENCY: National Marine Fisheries Service (NMFS), National Oceanic and Atmospheric Administration (NOAA), Commerce.

ACTION: Final rule.

SUMMARY: We are implementing 2020 specifications for the Mid-Atlantic blueline tilefish fishery, including the annual catch and total allowable landings limits. This action establishes allowable harvest levels and other management measures to prevent overfishing, consistent with the Magnuson-Stevens Fishery Conservation and Management Act and the Tilefish Fishery Management Plan.

DATES: Effective February 18, 2020, through December 31, 2020.

FOR FURTHER INFORMATION CONTACT: Laura Hansen, Fishery Management Specialist, 978-281-9225.

SUPPLEMENTARY INFORMATION:

Background

The Mid-Atlantic Fishery Management Council manages the blueline tilefish fishery north of the Virginia/North Carolina border under the Tilefish Fishery Management Plan (FMP), which outlines the Council's process for setting annual specifications. Regulations implementing the Tilefish FMP appear at 50 CFR part 648, subparts A and N, which require the Council to recommend acceptable biological catch (ABC), annual catch limit (ACL), annual catch target (ACT), total allowable landings (TAL), and other management measures, for up to 3 years at a time. On November 18, 2018, we proposed 2019 specifications for the blueline tilefish fishery and announced projected specifications for 2020 and 2021 based on Council recommendations (83 FR 58219). Public comment was accepted through December 4, 2018. We published a final rule implementing the 2019 specifications on February 12, 2019 (84 FR 3341).

At the end of each fishing year, we evaluate available catch information and determine if the ACL has been exceeded. If the ACL is exceeded, the regulations at 50 CFR 648.293 require a pound-for-pound reduction in a subsequent fishing year. During fishing year 2019, there were no annual catch limit or total allowable landings overages, nor is there any new biological information that would require altering the projected 2020 specifications. As a result, we are announcing the final specifications for fishing year 2020, as projected in the final rule implementing 2019 specifications (See Table 1).

Table 1—Summary of Blueline Tilefish Specifications
Specifications | 2020
ABC—North of NC/VA line | 100,520 lb (45.6 mt)
Recreational ACL | 73,380 (33.3 mt)
Commercial ACL | 27,140 lb (12.3 mt)
Recreational TAL | 71,912 lb (32.6 mt)
Commercial TAL | 26,869 lb (12.2 mt)

All other management measures in the blueline tilefish fishery will remain unchanged for the 2020 fishing year.

The FMP allows for the previous year's specifications to remain in place until replaced by a subsequent specifications action (rollover provision). As a result, the 2019 specifications remain in effect until replaced by the 2020 specifications included in this rule.

Classification

Pursuant to section 304(b)(1)(A) of the Magnuson-Stevens Act, the NMFS Assistant Administrator has determined that this rule is consistent with the Tilefish FMP, other provisions of the Magnuson-Stevens Act, and other applicable laws.

The Assistant Administrator for Fisheries, NOAA finds it is impracticable, unnecessary, and contrary to the public interest to provide for prior notice and an opportunity for public comment, under to authority at U.S.C. 553(b)(B). The proposed rule for 2019-2021 specifications (83 FR 58219, November 18, 2018) provided the public with the opportunity to comment on the specifications for 2019, and projected 2020 and 2021 specifications. The specifications for fishing year 2020 remain the same as projected in the specifications rulemaking. All comments received were addressed in the final rule (84 FR 3341).

Similarly, the need to implement these measures in a timely manner for the start of the blueline tilefish fishing year, constitutes good cause under authority contained in 5 U.S.C. 553(d)(3), to establish an effective date less than 30 days after date of publication. The public and fishing industry participants expect this action because we previously alerted the public in the proposed and final rules that we would conduct this review in interim years of the status quo multi-year specifications and announce the final quota.

This final rule is exempt from review under Executive Order 12866 because this action contains no implementing regulations.

This final rule does not duplicate, conflict, or overlap with any existing Federal rules.

This final rule does not contain a collection of information requirement for the purposes of the Paperwork Reduction Act.

The Chief Counsel for Regulation for the Department of Commerce certified to the Small Business Administration that the 2019-2021 blueline tilefish specifications rulemaking would not have a significant economic impact on a substantial number of small entities under the Regulatory Flexibility Act. No comments were received that would change the initial certification. Because advance notice and the opportunity for public comment are not required for this action under the Administrative Procedure Act, or any other law, the analytical requirements of the Regulatory Flexibility Act, 5 U.S.C. 601, et seq., do not apply to this rule. Therefore, no new regulatory flexibility analysis is required and none has been prepared.

Authority: 16 U.S.C. 1801 et seq.

Dated: February 12, 2020.
Samuel D. Rauch III,
Deputy Assistant Administrator for Regulatory Programs, National Marine Fisheries Service.

[FR Doc. 2020-03198 Filed 2-14-20; 8:45 am]

BILLING CODE 3510-22-P